DEPARTMENT OF LABOR

Employment and Training Administration

Job Corps Application Data; Proposed Collection; Comment Request

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed extension of the data collection for the Job Corps Application data collection forms (ETA 652, ETA 655 and ETA 682) 1205-0025, expires February 28, 2007). A copy of the proposed information collection request (ICR) can be obtained by contacting the office listed below in the addressee section of this notice or at this Web site: http://www.doleta.gov/OMBCN/OMBControlNumber.cfm.

DATES: Written comments must be submitted to the office listed in the addressee section below on or before January 22, 2007

ADDRESSEE: Cathy Keiter, Office of Job Corps, U.S. Department of Labor, Room N4507, 200 Constitution Ave., NW., Washington, DC 20210. Phone (202) 693-3000 (This is not a toll-free number.), fax (202) 693-2767, or e-mail keiter.cathy@dol.gov.

SUPPLEMENTARY INFORMATION:

I. Background

The collection of this information is necessary to determine eligibility of applicants to the Job Corps program. The forms in this collection are:

ETA 652, Job Corps Data Sheet, ETA 655, Statement from Court or Other Agency,

ETA 682, Child Care Certification.

These forms are the initial forms completed for each applicant. They serve as the basic document for determining eligibility for Job Corps. They also provide demographic characteristics for program planning, evaluating and reporting purposes. This activity, previously authorized by Title IV-B of the Job Training Partnership Act and currently authorized under the Title I, Subtitle C of the Workforce Investment Act of 1998, is the major responsibility of the Job Corps admissions counselor.

The ETA 652, Job Corps Data Sheet, is used to obtain information for screening and enrollment purposes to determine eligibility for the Job Corps program in accordance with the Workforce Investment Act. It is prepared by the admissions counselor for each applicant and has no further impact on the public. The ETA 655, Statement from Court or Other Agency, collects essentially information for determining the suitability of an applicant to participate in the Job Corps program. It is used to document past behavior problems for all applicants, as well as provide a basis for projecting future behavior. It is collected by the Job Corps admissions counselor who requests the information from proper authorities. The ETA 682, Child Care Certification, is used to certify an applicant's arrangements for dependent child(ren) while the applicant is in Job Corps.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions

Type of Review: Extension of a currently-approved collection.

Agency: Employment and Training Administration.

Title: Job Corps Application Data.

OMB Number: 1205-0025.

Agency Number(s): ETA 652, ETA 655 and ETA 682.

Recordkeeping: The respondent is not required to retain records; Admissions Counselors input information into the Center Information System (CIS).

Affected Public: Individuals.

Total Respondents: 87,943.

Estimated Total Burden Hours: 16,158.

ETA Form No. | Total number of respondents | Frequency | Average time per respondent | Total burden hours | Currently approved hours (2003) | NET change
Job Corps Application ETA 652 | 87,943 | 1/person | 10 minutes | 14,657 | 17,139 | −2,482
Statement from Court ETA 655 | 87,943 | 1/person | 1 minute | 1,416 | 1,714 | −248
Child Care Certification ETA 682 | 4,216 | On occasion | 30 seconds | 35 | 41 | −6
Total |  |  |  | 16,158 | 18,894 | −2,736
Data for the forms listed above continue to be collected on data input screens that electronically transmit the data to a Center Information System (CIS). While the frequency and average time per respondent remain the same from the previous data collection submission in 2003, the total number of respondents has decreased effectively reducing the total burden hours by 14% from 18,894 to 16,158 total burden hours.

Total Burden Cost (capital/startup): 0.

Total Burden Cost (operating/maintaining): $787,862.

Comments submitted in response to this comment request will be summarized and/or included in the request for Office of Management and Budget approval of the information collection request; they will also become a matter of public record.

Dated: November 3, 2006.
Esther R. Johnson,
National Director, Office of Job Corps.

[FR Doc. E6-19613 Filed 11-20-06; 8:45 am]

BILLING CODE 4510-30-P